DEPARTMENT OF TRANSPORTATION

Federal Aviation Administration

14 CFR Part 97

[Docket No. 31172; Amdt. No. 3781]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 26, 2018. The compliance date for each SIAP, associated Takeoff Minimums, and ODP is specified in the amendatory provisions.

The incorporation by reference of certain publications listed in the regulations is approved by the Director of the Federal Register as of January 26, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC on December 29, 2017.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 1 February 2018

Anchorage, AK, Ted Stevens Anchorage Intl, ILS OR LOC RWY 7L, ILS RWY 7L (SA CAT I), ILS RWY 7L (SA CAT II), Amdt 3C

Anchorage, AK, Ted Stevens Anchorage Intl, ILS OR LOC RWY 7R, ILS RWY 7R (SA CAT I), ILS RWY 7R (CAT II), ILS RWY 7R (CAT III), Amdt 3C

Kipnuk, AK, Kipnuk, RNAV (GPS) RWY 17, Orig

Kipnuk, AK, Kipnuk, RNAV (GPS) RWY 35, Orig

Kipnuk, AK, Kipnuk, Takeoff Minimums and Obstacle DP, Amdt 2

Sacramento, CA, Sacramento Intl, ILS OR LOC RWY 16L, ILS RWY 16L (SA CAT II), Amdt 4A

Santa Ana, CA, John Wayne Airport-Orange County, RNAV (GPS) Y RWY 20R, Amdt 3A

Santa Monica, CA, Santa Monica Muni, RNAV (GPS) RWY 21, Amdt 1

Santa Monica, CA, Santa Monica Muni, RNAV (GPS) Y RWY 3, Amdt 1

Santa Monica, CA, Santa Monica Muni, RNAV (GPS) Z RWY 3, Amdt 1

Weno Island, FM, Chuuk Intl, GPS RWY 22, Orig, CANCELED

Weno Island, FM, Chuuk Intl, NDB RWY 4, Amdt 1

Weno Island, FM, Chuuk Intl, NDB RWY 22, Orig

Weno Island, FM, Chuuk Intl, NDB OR GPS-A, Orig-A, CANCELED

Weno Island, FM, Chuuk Intl, NDB OR GPS-B, Amdt 4A, CANCELED

Weno Island, FM, Chuuk Intl, RNAV (GPS) RWY 4, Amdt 1

Weno Island, FM, Chuuk Intl, RNAV (GPS) RWY 22, Orig

Milledgeville, GA, Baldwin County, NDB RWY 28, Amdt 4

Milledgeville, GA, Baldwin County, RNAV (GPS) RWY 10, Amdt 2

Milledgeville, GA, Baldwin County, RNAV (GPS) RWY 28, Amdt 2

Paducah, KY, Barkley Rgnl, RNAV (GPS) RWY 4, Amdt 1

Bedford, MA, Laurence G Hanscom Fld, ILS OR LOC RWY 11, Amdt 26B

Bedford, MA, Laurence G Hanscom Fld, ILS OR LOC RWY 29, Amdt 8

Bedford, MA, Laurence G Hanscom Fld, VOR RWY 23, Amdt 10

Saginaw, MI, MBS Intl, Takeoff Minimums and Obstacle DP, Amdt 1

St Louis, MO, Creve Coeur, RNAV (GPS) RWY 16, Amdt 1A

St Louis, MO, St Louis Lambert Intl, RNAV (GPS) Y RWY 30R, Amdt 2

St Louis, MO, St Louis Lambert Intl, ILS OR LOC RWY 30R, ILS RWY 30R (CAT II), ILS RWY 30R (CAT III), Amdt 11

West Yellowstone, MT, Yellowstone, RNAV (GPS) RWY 1, Orig-A

Raeford, NC, P K Airpark, RNAV (GPS)-A, Orig

Raeford, NC, P K Airpark, VOR-A, Amdt 4

Ellendale, ND, Ellendale Muni, RNAV (GPS) RWY 31, Orig

Ellendale, ND, Ellendale Muni, Takeoff Minimums and Obstacle DP, Orig

Reno, NV, Reno/Stead, ILS OR LOC RWY 32, Orig-A

Reno, NV, Reno/Stead, RNAV (GPS) RWY 32, Amdt 1B

Galion, OH, Galion Muni, RNAV (GPS) RWY 5, Orig-B

Galion, OH, Galion Muni, RNAV (GPS) RWY 23, Orig-B

Lawton, OK, Lawton-Fort Sill Rgnl, ILS OR LOC RWY 35, Amdt 8

Lawton, OK, Lawton-Fort Sill Rgnl, RNAV (GPS) RWY 35, Amdt 1A

Lawton, OK, Lawton-Fort Sill Rgnl, VOR RWY 35, Amdt 21

Oklahoma City, OK, Will Rogers World, ILS OR LOC RWY 35R, ILS RWY 35R (SA CAT I), ILS RWY 35R (CAT II), Amdt 10D

Grants Pass, OR, Grants Pass, RNAV (GPS) RWY 13, Orig

Pittsburg, PA, Pittsburg Intl, ILS OR LOC RWY 10L, ILS RWY 10L (CAT II), ILS RWY 10L (CAT III), Amdt 26

Pittsburg, PA, Pittsburg Intl, ILS OR LOC RWY 10R, ILS RWY 10R (SA CAT I), ILS RWY 10R (CAT II), ILS RWY 10R (CAT III), Amdt 10G

Pittsburg, PA, Pittsburg Intl, ILS OR LOC RWY 28L, Amdt 11

Pittsburg, PA, Pittsburg Intl, ILS OR LOC RWY 28R, ILS RWY 28R (SA CAT I), ILS RWY 28R (CAT II), Amdt 10

Pittsburg, PA, Pittsburg Intl, ILS OR LOC RWY 32, Amdt 14

Pittsburg, PA, Pittsburg Intl, RNAV (GPS) RWY 10L, Amdt 4

Pittsburg, PA, Pittsburg Intl, RNAV (GPS) RWY 14, Amdt 3C

Pittsburg, PA, Pittsburg Intl, RNAV (GPS) Y RWY 10C, Amdt 4B

Pittsburg, PA, Pittsburg Intl, RNAV (GPS) Y RWY 10R, Amdt 3C

Pittsburg, PA, Pittsburg Intl, RNAV (GPS) Y RWY 28C, Amdt 4B

Pittsburg, PA, Pittsburg Intl, RNAV (GPS) Y RWY 28L, Amdt 5

Pittsburg, PA, Pittsburg Intl, RNAV (GPS) Y RWY 28R, Amdt 5

Pittsburg, PA, Pittsburg Intl, RNAV (GPS) Y RWY 32, Amdt 6

Pittsburg, PA, Pittsburg Intl, RNAV (RNP) Z RWY 10C, Orig-D

Pittsburg, PA, Pittsburg Intl, RNAV (RNP) Z RWY 10R, Orig-D

Pittsburg, PA, Pittsburg Intl, RNAV (RNP) Z RWY 28C, Orig-D

Pittsburg, PA, Pittsburg Intl, RNAV (RNP) Z RWY 28L, Amdt 1

Pittsburg, PA, Pittsburg Intl, RNAV (RNP) Z RWY 28R, Amdt 1

Pittsburg, PA, Pittsburg Intl, RNAV (RNP) Z RWY 32, Amdt 2

North Kingstown, RI, Quonset State, ILS OR LOC RWY 16, Amdt 11

North Kingstown, RI, Quonset State, RNAV (GPS) RWY 16, Amdt 1

North Kingstown, RI, Quonset State, RNAV (GPS) RWY 34, Amdt 1

North Kingstown, RI, Quonset State, VOR RWY 34, Amdt 3

North Kingstown, RI, Quonset State, VOR-A, Amdt 6

Onida, SD, Onida Muni, RNAV (GPS) RWY 13, Orig

Onida, SD, Onida Muni, RNAV (GPS) RWY 31, Orig

Onida, SD, Onida Muni, Takeoff Minimums and Obstacle DP, Orig

Mc Minnville, TN, Warren County Memorial, Takeoff Minimums and Obstacle DP, Amdt 2

Dallas-Fort Worth, TX, Dallas-Fort Worth Intl, CONVERGING ILS RWY 36L, Amdt 3

Dallas-Fort Worth, TX, Dallas-Fort Worth Intl, ILS OR LOC RWY 36L, ILS RWY 36L (SA CAT II), Amdt 4

Kenedy, TX, Karnes County, Takeoff Minimums and Obstacle DP, Amdt 2

Salt Lake City, UT, South Valley Rgnl, Takeoff Minimums and Obstacle DP, Amdt 6

Pullman/Moscow, WA, Pullman/Moscow Rgnl, Takeoff Minimums and Obstacle DP, Amdt 4A

Milwaukee, WI, General Mitchell Intl, ILS OR LOC RWY 19R, Amdt 12B

Milwaukee, WI, General Mitchell Intl, LOC RWY 25L, Amdt 5B

Milwaukee, WI, General Mitchell Intl, RNAV (GPS) RWY 1L, Amdt 1D

Milwaukee, WI, General Mitchell Intl, RNAV (GPS) RWY 1R, Orig-A

Milwaukee, WI, General Mitchell Intl, RNAV (GPS) RWY 7L, Orig-B

Milwaukee, WI, General Mitchell Intl, RNAV (GPS) RWY 13, Orig-B

Milwaukee, WI, General Mitchell Intl, RNAV (GPS) RWY 19L, Orig-B

Milwaukee, WI, General Mitchell Intl, RNAV (GPS) RWY 19R, Amdt 2B

Milwaukee, WI, General Mitchell Intl, RNAV (GPS) Z RWY 7R, Amdt 1D

Milwaukee, WI, General Mitchell Intl, RNAV (GPS) Z RWY 25L, Amdt 1D

RESCINDED: On December 26, 2017 (82 FR 60862), the FAA published an Amendment in Docket No. 31170, Amdt No. 3779, to Part 97 of the Federal Aviation Regulations under section 97.29 and 97.37. The following entries for Buckland, AK, and Philadelphia, PA, effective February 1, 2018, are hereby rescinded in their entirety:

Buckland, AK, Buckland, Takeoff Minimums and Obstacle DP, Amdt 2

Philadelphia, PA, Philadelphia Intl, ILS Z OR LOC Z RWY 9R, ILS Z RWY 9R (SA CAT I), ILS Z RWY 9R (CAT II), ILS Z RWY 9R (CAT III), Amdt 10A

[FR Doc. 2018-01167 Filed 1-25-18; 8:45 am]

BILLING CODE 4910-13-P